DEPARTMENT OF HEALTH AND HUMAN SERVICES

Centers for Disease Control and Prevention

Disease, Disability, and Injury Prevention and Control Special Emphasis Panels (SEP): Antimicrobial Resistance, Request for Applications (RFA) CI 06-003

In accordance with Section 10(a)(2) of the Federal Advisory Committee Act (Pub. L. 92-463), the Centers for Disease Control and Prevention (CDC) announces the following meeting:

Name: Disease, Disability, and Injury Prevention and Control Special Emphasis Panel (SEP): Antimicrobial Resistance, RFA CI 06-003.

Time and Date: 8 a.m.-5 p.m., May 10, 2006 (Closed).

Place: Centers for Disease Control and Prevention, 1600 Clifton Road NE., Building 19, Room 231, Auditorium B1, Atlanta, GA 30333.

Status: The meeting will be closed to the public in accordance with provisions set forth in Section 552b(c) (4) and (6), Title 5 U.S.C., and the Determination of the Director, Management Analysis and Services Office, CDC, pursuant to Public Law 92-463.

Matters to be Discussed: The meeting will include the review, discussion, and evaluation of applications received in response to Antimicrobial Resistance, RFA CI 06-003.

Contact Person For More Information: M. Chris Langub, PhD, Scientific Review Administrator, Office of Extramural Programs, NIOSH, CDC, 1600 Clifton Road NE, Mailstop E74, Atlanta, GA 30333, Telephone 404-498-2543. The Director, Management Analysis and Services Office, has been delegated the authority to sign Federal Register notices pertaining to announcements of meetings and other committee management activities, for both CDC and the Agency for Toxic Substances and Disease Registry.

Dated: April 12, 2006.
Alvin Hall,
Director, Management Analysis and Services Office, Centers for Disease Control and Prevention.

[FR Doc. E6-5718 Filed 4-17-06; 8:45 am]

BILLING CODE 4163-18-P